DEPARTMENT OF ENERGY

Federal Energy Regulatory Commission

[Docket No. EL02-8-000]

Mirant Americas Energy Marketing, LP, Mirant Bowline, LLC, Mirant Lovett, LLC, and Mirant NY-Gen, LLC, Complainants, v. New York Independent System Operator, Inc., Respondent; Notice of Complaint

October 19, 2001.

Take notice that on October 18, 2001, Mirant Americas Energy Marketing, LP, Mirant Bowline, LLC, Mirant Lovett, LLC and Mirant NY-Gen, LLC (collectively, the Mirant Companies) tendered for filing a complaint pursuant to Sections 206 and 306 of the Federal Power Act against the New York Independent System Operator, Inc. (NYISO) in connection with the NYISO's violation of its Open Access Transmission Tariff (OATT) and the requirements of Order 888 in failing to offer long-term physically firm transmission service.

The Mirant Companies have served a copy of the complaint on the NYISO.

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before November 7, 2001. Protests will be considered by the Commission in determining the appropriate action to be taken, but will not serve to make protestants parties to the proceeding. Any person wishing to become a party must file a motion to intervene. Answers to the complaint shall also be due on or before November 7, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-26851 Filed 10-24-01; 8:45 am]

BILLING CODE 6717-01-P